Title 3—

The President

Proclamation 8976 of May 9, 2013

Military Spouse Appreciation Day, 2013

By the President of the United States of America

A Proclamation

As long as there have been courageous men and women willing to protect our Union and our ideals, there have been extraordinary spouses at their side—patriots in their own right who serve and sacrifice in ways many cannot fathom. They are moms and dads who take up the work of two during deployments, shuffling their careers and packing up their lives whenever our Nation calls. They are dedicated employees at our businesses, committed volunteers in our communities, and essential caretakers for our wounded warriors. America's military spouses are at the core of our Armed Forces, and on Military Spouse Appreciation Day, we celebrate their contributions to keeping our country safe.

Just as we are bound by a sacred obligation to care for our men and women in uniform, we are equally responsible for making sure their loved ones get the support they deserve. My Administration has taken steps to uphold that special trust, from investing in childcare and education for military families to providing mortgage assistance for military homeowners. Through First Lady Michelle Obama and Dr. Jill Biden's Joining Forces initiative, we have partnered with the private sector to expand hiring for military spouses and veterans.

We have also called on States to streamline credentialing and licensing procedures that hinder too many military spouses when they move from duty station to duty station. Military spouses with professional experience should not have to wait for work, and our businesses should not have to go without their skills. By simplifying the certification process, we can help ensure the financial stability of our military families, strengthen our Armed Forces, and spur growth throughout our economy. To learn more and get involved, visit www.JoiningForces.gov.

In the past few years, we have seen every part of our society come together and make a real commitment to supporting our military families—not just with words, but with deeds. Yet, we must do more to honor the profound debt of gratitude we owe our military spouses. Their strength and resolve reflects the best of the American spirit, and on this occasion, let us pledge once more to serve them as well as they serve us.

NOW, THEREFORE, I, BARACK OBAMA, President of the United States of America, by virtue of the authority vested in me by the Constitution and the laws of the United States, do hereby proclaim May 10, 2013, as Military Spouse Appreciation Day. I call upon the people of the United States to honor military spouses with appropriate ceremonies and activities.

IN WITNESS WHEREOF, I have hereunto set my hand this ninth day of May, in the year of our Lord two thousand thirteen, and of the Independence of the United States of America the two hundred and thirty-seventh.

[FR Doc. 2013-11629

Filed 5-13-13; 11:15 am]

Billing code 3295-F3